DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 7, 2003.

Interested persons are invited to submit written comments regarding the subject matter of the investigations to the Director, Division of Trade Adjustment Assistance, at the address shown below, not later than July 7, 2003.

The petitions filed in this case are available for inspection at the Office of the Director, Division of Trade Adjustment Assistance, Employment and Training Administration, U.S. Department of Labor, Room C-5311, 200 Constitution Avenue, NW., Washington, DC 20210.

Signed at Washington, DC, this 16th day of June 2003.
Timothy Sullivan,
Director, Division of Trade Adjustment Assistance.

Appendix
[Petitions instituted between 06/02/2003 and 06/06/2003]
TA-W | Subject firm (petitioners) | Location | Date of institution | Date of petition
51,914 | Tecumseh Products Company (Comp) | Douglas, GA | 06/02/2003 | 05/23/2003
51,915 | Foremost Fisheries, Inc. (Comp) | Seattle, WA | 06/02/2003 | 05/30/2003
51,916 | Twin City E.D.M., Inc. (Comp) | Fridley, MN | 06/02/2003 | 05/28/2003
51,917 | Liberty Embroidery Wentworth Corp. (Wkrs) | Madison, NC | 06/02/2003 | 05/19/2003
51,918 | Alstom USA, Inc. (Wkrs) | Charleroi, PA | 06/02/2003 | 05/30/2003
51,919 | Chevron—Texaco (Wkrs) | Concord, CA | 06/02/2003 | 05/09/2003
51,920 | O'Sullivan Industries Holdings (Comp) | Lamar, MO | 06/02/2003 | 05/29/2003
51,921 | Nortel Networks (Wkrs) | RTP, NC | 06/02/2003 | 05/24/2003
51,922 | PDC Pharmaceutical Systems LLC (Comp) | Hartland, WI | 06/02/2003 | 05/30/2003
51,923 | Sanmina—SCI (Wkrs) | Lynchburg, VA | 06/02/2003 | 05/19/2003
51,924 | Software Spectrum (Comp) | Liberty Lake, WA | 06/02/2003 | 05/27/2003
51,925 | F/V Martle (Comp) | Blaine, WA | 06/03/2003 | 05/26/2003
51,926 | State of Alaska Commercial Fisheries (Comp) | Manokotak, AK | 06/03/2003 | 05/20/2003
51,927 | Sound Fish, Inc. F/V New York (Comp) | Blaine, WA | 06/03/2003 | 06/02/2003
51,928 | Joan Fabrics Corporation (Comp) | Newton, NC | 06/03/2003 | 06/02/2003
51,929 | LeSporsac (Wkrs) | Stearns, KY | 06/03/2003 | 05/27/2003
51,930 | Richards Industries (Wkrs) | Frenchburg, KY | 06/03/2003 | 05/27/2003
51,931 | New Stamco, Inc. (Comp) | New Bremen, OH | 06/03/2003 | 05/21/2003
51,932 | Northwest Airlines, Inc (Wkrs) | Anchorage, AK | 06/03/2003 | 05/19/2003
51,933 | Vigorelli Sportswear (Comp) | McMinnville, TN | 06/03/2003 | 05/22/2003
51,934 | Darwood Manufacturing Co. (Comp) | Pelham, GA | 06/03/2003 | 05/30/2003
51,935 | Corning Cable Systems (Wkrs) | Keller, TX | 06/03/2003 | 05/23/2003
51,936 | Weslaco Materials Warehouse (Comp) | Weslaco, TX | 06/03/2003 | 05/15/2003
51,937 | Magne Quench UG, Inc. (USWA) | Valparaiso, IN | 06/03/2003 | 05/30/2003
51,938 | Eureka Company (The) (Comp) | El Paso, TX | 06/03/2003 | 06/02/2003
51,939 | Standard Mercerizing and Specialty Yarn (UNI) | Chattanooga, TN | 06/03/2003 | 05/30/2003
51,940 | Broyhill Furniture Industries, Inc. (Comp) | Rutherfordton, NC | 06/04/2003 | 005/27/2003
51,941 | Midland Steel Products Company (UAW) | Solon, OH | 06/04/2003 | 005/19/2003
51,942 | V.C. Textile, Inc. (Wkrs) | Miami, FL | 06/04/2003 | 005/29/2003
51,943 | F/V Carolina (Comp) | Wasilla, AK | 06/04/2003 | 06/02/2003
51,944 | F/V Dawn (Comp) | Craig, AK | 06/04/2003 | 05/08/2003
51,945 | Tom Kouremetis (Comp) | Kodiak, AK | 06/04/2003 | 05/30/2003
51,946 | Towle Manufacturing Company (Comp) | N. Dighton, MA | 06/04/2003 | 06/02/2003
51,947 | Alltrista Consumer Products Co. (Comp) | Strong, ME | 06/04/2003 | 05/21/2003
51,948 | American Tool Companies (Comp) | Beatrice, NE | 06/04/2003 | 06/03/2003
51,949 | Peerless Corporation (Comp) | Ironton, OH | 06/04/2003 | 06/02/2003
51,950 | Shipley Company (Comp) | Moss Point, MS | 06/04/2003 | 05/21/2003
51,951 | Fishing Vessel (F/V) ULU (Comp) | Dillingham, AK | 06/05/2003 | 06/04/2003
51,952 | F/V Ms. Ingrid (Comp) | Sand Point, AK | 06/05/2003 | 06/03/2003
51,953 | Wm Jette and Sons, Inc. (Comp) | Providence, RI | 06/05/2003 | 05/28/2003
51,954 | Facility Pro (Wkrs) | Allentown, PA | 06/05/2003 | 05/15/2003
51,955 | Gilmour Manufacturing (Comp) | Somerset, PA | 06/05/2003 | 06/04/2003
51,956 | Plexus (Wkrs) | Neenah, WI | 06/06/2003 | 06/04/2003
51,957 | Temme Mold and Engineering (Comp) | Evansville, IN | 06/06/2003 | 06/03/2003
51,958 | UTI Star Guide (CO) | Arvada, CO | 06/06/2003 | 06/04/2003
51,959 | Fiskars Brands (Comp) | Opelika, AL | 06/06/2003 | 05/29/2003
51,960 | Agilent Technologies, Inc. (Wkrs) | Palo Alto, CA | 06/06/2003 | 06/03/2003
51,961 | 3M (Comp) | Eagar, MN | 06/06/2003 | 05/30/2003
51,962 | Vibratech, Inc. (UAW) | Alden, NY | 06/06/2003 | 06/03/2003
51,963 | Nortel Networks (Wkrs) | RTP, NC | 06/06/2003 | 05/19/2003
51,964 | L.E. Smith Glass (AFGWU) | Mt. Pleasant, PA | 06/06/2003 | 05/28/2003
51,965 | Copperweld Corporation (Comp) | Birmingham, AL | 06/06/2003 | 05/28/2003
51,966 | Springs Window Fashions (Comp) | Wausau, WI | 06/06/2003 | 06/04/2003
51,967 | Reading Anthracite Co. (Wkrs) | Pottsville, PA | 06/06/2003 | 05/29/2003
51,968 | International Uranium Corp. (Wkrs) | Blanding, UT | 06/06/2003 | 05/23/2003
51,969 | Knaack Manufacturing Co. (Wkrs) | Payson, UT | 06/06/2003 | 06/03/2003
51,970 | Northwest Airlines (MN) | St. Paul, MN | 06/06/2003 | 05/06/2003
51,971 | Fulton Bellows and Components (USWA) | Knoxville, TN | 06/06/2003 | 06/05/2003
51,972 | Ken-Marc Sales Corp. (Comp) | Maspeth, NY | 06/06/2003 | 06/05/2003
51,973 | Briggs and Stratton (PACE) | Wauwatosa, WI | 06/06/2003 | 06/02/2003
51,974 | ICT Group (Wkrs) | Christiansburg, VA | 06/06/2003 | 05/30/2003
51,975 | Walstenburg Apparel Corp. (Comp) | Walstenburg, NC | 06/06/2003 | 05/30/2003

[FR Doc. 03-15863 Filed 6-23-03; 8:45 am]

BILLING CODE 4510-30-M